ENVIRONMENTAL PROTECTION AGENCY

[EPA-HQ-OA-2006-0074; FRL-8184-5]

Agency Information Collection Activities; Submission to OMB for Review and Approval; Comment Request; Voluntary Customer Satisfaction Surveys; ICR No. 1711.05, OMB Control No. 2090-0019

AGENCY: Environmental Protection Agency (EPA).

ACTION: Notice.

SUMMARY: In compliance with the Paperwork Reduction Act (PRA)(44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before July 17, 2006.

ADDRESSES: Submit your comments, identified by Docket ID No. EPA-HQ-OA-2006-0074 to: (1) EPA online using http://www.regulations.gov (preferred method), by e-mail to docket.oei@epa.gov, or by mail to: OEI Docket, Environmental Protection Agency, Mailcode: 2822T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Patricia Bonner, Office of Environmental Policy Innovation (MC 1807T), Environmental Protection Agency, 1200 Pennsylvania Ave., NW., Washington, DC 20460; telephone number: 202-566-2204; fax number: 202-566-2200; e-mail address: bonner.patricia@epa.gov.

SUPPLEMENTARY INFORMATION: EPA has submitted the following ICR to OMB for review and approval according to the procedures prescribed in 5 CFR 1320.12. On February 6, 2006 (71 FR 6070), EPA sought comments on this ICR pursuant to 5 CFR 1320.8(d). EPA received no comments. Any additional comments on this ICR should be submitted to EPA and OMB within 30 days of this notice.

EPA has established a public docket for this ICR under Docket ID No. EPA-HQ-OA-2006-0074, which is available for online viewing at http://www.regulations.gov, or in person viewing at the OEI Docket in the EPA Docket Center (EPA/DC), EPA West, Room B102, 1301 Constitution Ave., NW., Washington, DC. The EPA/DC Public Reading Room is open from 8 a.m. to 4:30 p.m., Monday through Friday, excluding legal holidays. The telephone number for the Reading Room is 202-566-1744, and the telephone number for the OEI Docket is 202-566-1752.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, CBI, or other information whose public disclosure is restricted by statute. For further information about the electronic docket, go to http://www.regulations.gov.

Title: Voluntary Customer Satisfaction Surveys.

ICR numbers: EPA ICR No. 1711.05, OMB Control No. 2090-0019.

ICR status: This ICR is scheduled to expire on June 30, 2006. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: EPA uses voluntary surveys to learn how satisfied EPA customers are with our services, and how we can improve services, products and processes. EPA surveys individuals who use services or could have. During the next three years, EPA plans up to 72 surveys, and will use results to target/measure service delivery improvements. By seeking renewal of the generic clearance for customer surveys, EPA will have the flexibility to gather the views of our customers to better determine the extent to which our services, products and processes satisfy their needs or need to be improved. The generic clearance will speed the review and approval of customer surveys that solicit opinions from EPA customers on a voluntary basis, and do not involve “fact-finding” for the purposes of regulatory development or enforcement.

Burden Statement: The annual public reporting and recordkeeping burden for this collection of information is estimated to average 5.4 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: The Executive Order describes a customer as “ * * * an individual or entity who is directly served by a department or agency.” The EPA, by the very nature of its mandate, serves very large and diverse groups that receive or are in some way affected by EPA services. Past EPA customer groups targeted for customer satisfaction surveys include individual citizens, industry/business, states/other governments, and Web users. Because several customer groups use the same services, a survey may reach more than one of the designated customer categories. (The code standard industrial code (SIC) for “General Public” is 99.)

Estimated Number of Respondents: 18,735.

Frequency of Response: On occasion.

Estimated Total Annual Hour Burden: 1,671.

Estimated Total Annual Cost: $8,466, includes $0 annualized capital or O&M costs.

Changes in the Estimates: There is a decrease of 1,295 hours in the total estimated burden currently identified in the OMB Inventory of Approved ICR Burdens. This decrease is in large part due to greater use of online survey tools.

Dated: June 9, 2006.
Oscar Morales,
Director, Collection Strategies Division.

[FR Doc. E6-9466 Filed 6-15-06; 8:45 am]

BILLING CODE 6560-50-P